DEPARTMENT OF DEFENSE

Department of the Navy

[Docket ID USN-2011-0005]

Privacy Act of 1974; System of Records

AGENCY: Department of the Navy, DoD.

ACTION: Notice to Add a New System of Records.

SUMMARY: The Department of the Navy proposes to add a new system of records to its inventory of record systems subject to the Privacy Act of 1974 (5 U.S.C. § 552a), as amended.

DATES: The changes will be effective on May 5, 2011 unless comments are received that would result in a contrary determination.

ADDRESSES: You may submit comments, identified by docket number and/Regulatory Information Number (RIN) and title, by any of the following methods:

* Federal Rulemaking Portal: http://www.regulations.gov. Follow the instructions for submitting comments.

* Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Robin Patterson (202) 685-6545, or HEAD, FOIA/Privacy Act Policy Branch, Acting, the Department of the Navy, 2000 Navy Pentagon, Washington, DC 20350-2000.

SUPPLEMENTARY INFORMATION: The Department of the Navy systems of records notice subject to the Privacy Act of 1974 (5 U.S.C. 552a), as amended, has been published in the Federal Register and is available from the FOR FURTHER INFORMATION CONTACT address above.

The proposed systems reports, as required by 5 U.S.C. 552a (r) of the Privacy Act of 1974, as amended, were submitted on March 25, 2011, to the House Committee on Government Report, the Senate Committee on Homeland Security and Governmental Affairs, and the Office of Management and Budget (OMB) pursuant to paragraph 4c of Appendix I to OMB Circular No. A-130, “Federal Agency Responsibilities for Maintaining Records About Individual,” dated February 8, 1996 (February 20, 1996, 61 FR 6427).

Dated: March 29, 2011.
Morgan F. Park,
Alternate OSD Federal Register Liaison Officer, Department of Defense.

N07510-1

System Name:

Naval Audit Service Information Management System (NASIMS).

System Location:

Department of the Navy Assistant for Administration, Office of Information Technology, 1000 Navy Pentagon, Washington, DC 20350-1000.

Categories of Individuals Covered by the System:

Department of the Navy military members, civilians employed by the Navy and contractors.

Categories of Records in the System:

First, middle and last name, nickname, last four digits of Social Security Number (SSN), Electronic Data Interchange Personal Identifier (EDIPI) (also known as the Department of Defense personal identifier), date of birth, race, gender, photograph, entered on duty date, position title, directorate, division, team, pay plan, pay grade, series, security clearance level, educational information, location, room, home address, mailing address, work phone number, work cell phone number, work e-mail address, personal e-mail address, home phone number, personal cell phone number, and emergency contact name, home phone number, cell phone number, and work phone number.

Authority for Maintenance of the System:

10 U.S.C. 136, Under Secretary of Defense for Personnel and Readiness; 10 U.S.C. 5013, Department of the Navy; 10 U.S.C. 5014, Office of the Secretary of the Navy; 10 U.S.C. 5041, Headquarters, Marine Corps; 5 U.S.C. 301, Departmental Regulations; DoD Directive 8320.1, DoD Data Administration; DoD Manual 7600.7-M, DoD Audit Manual; SECNAVINST 7510.7F, Department of the Navy Internal Audit and E.O. 9397 (SSN), as amended.

Purpose:

NASIMS is used by the Naval Audit Service to effectively and efficiently manage and track the personnel and administrative functions and business processes of the agency. The information is used to maximize staff resources and to provide project cost summary data; to track staff hours allocated towards project preparation and active projects which will allow for more effective scheduling of unassigned personnel and to categorize indirect time expended for end-of-year reporting; to plan workloads, to assist in providing time and attendance to the centralized payroll system; and to request, schedule and track auditor training requirements.

Routine Uses:

In addition to those disclosures generally permitted under 5 U.S.C. 552a(b) of the Privacy Act of 1974, these records contained therein may specifically be disclosed outside the DoD as a routine use pursuant to 5 U.S.C. 552a(b)(3) as follows:

The DoD ‘Blanket Routine Uses’ that appear at the beginning of the Navy's compilation of system of record notices also apply to this system.

Policies and Practices for Storing, Retrieving, Accessing, Retaining, and Disposing of Records:

Storage:

Records are stored on electronic storage media.

Retrievability:

Records about individuals are retrieved using a combination of name, geographic and demographic characteristics (such as name, last four digits of Social Security Number (SSN), series, grade, dates of service and duty station).

Safeguards:

Access to this system of records and personal information is restricted by the use of Common Access Card (CAC). Access to personal information is restricted to those who require the records in the performance of their official duties. This system of records is profile or role based, which limits the user to specific data and/or application functions. Users in a specific profile cannot view data outside of that profile's restriction. All individuals to be granted access to this system of records are to have received Information Assurance and Privacy Act training. Computerized records are maintained in a controlled area accessible only to authorized personnel. Entry to these areas is restricted to those personnel with a valid requirement and authorization to enter. Physical entry is restricted by the use of locks, guards, and administrative procedures.

Retention and disposal:

Internal Audit Policy records are maintained for 3 years then destroyed, or destroyed 1 year after guidance is superseded. Management Information Systems Reports are destroyed when no longer needed for administrative, legal, audit, or other operational purposes, whichever is later. Audit Schedules are maintained for 3 years then destroyed, or destroyed when no longer needed. Annual Audit Plan records are maintained for 11 years then destroyed. Time and attendance records are maintained for 6 years then destroyed. Records are destroyed by degaussing or erasing from the system.

System Manager(s) and Address(es):

Director, Information Management and Analysis, Naval Audit Service, 1006 Beatty Place SE., Washington Navy Yard, DC 20374-5005.

Notification Procedure:

Individuals seeking to determine whether this system of records contains information about themselves should address written inquiries to Naval Audit Service, Attn: FOIA, 1006 Beatty Place SE., Washington Navy Yard, DC 20374-5005.

The request should be signed and include full name, dates of service, last four digits of Social Security Number (SSN), series, grade, duty station and a complete mailing address. The system manager may require an original signature or a notarized signature as a means of proving the identity of the individual requesting access to the records.

Record Access Procedure:

Individuals seeking access to records about themselves contained in this system of records should address written inquiries to Naval Audit Service, Attn: FOIA, 1006 Beatty Place SE., Washington Navy Yard, DC 20374-5005.

The request should be signed and include full name, dates of service, last four digits of Social Security Number (SSN), series, grade, duty station and a complete mailing address. The system manager may require an original signature or a notarized signature as a means of proving the identity of the individual requesting access to the records.

Contesting Record Procedure:

The Navy's rules for accessing records and for contesting contents and appealing initial agency determinations are published in SECNAVINST 5211.5 series and 32 CFR part 701 or may be obtained from the system manager.

Record Source Categories:

Information is obtained primarily from the individual and/or Naval Audit Service Human Resources staff and from official Department of Navy and Department of Defense official programs of record: Defense Civilian Personnel Data System (DCPDS); Defense Enrollment Eligibility Reporting System (DEERS); and Joint Personnel Adjudication System (JPAS).

Exemptions Claimed for the System:

None.

[FR Doc. 2011-8010 Filed 4-4-11; 8:45 am]

BILLING CODE 5001-06-P